COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes services from the Procurement List previously furnished by such agencies.

DATES: Date added to and deleted from the Procurement List: July 14, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 5/10/2019, the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN—Product Name: MR 13033—Placemat, Woven, Assorted Colors

Mandatory Source of Supply: Chester County Branch of the PAB, Coatesville, PA

NSN—Product Name: MR 1048—Bottle, Trigger, All Purpose, Opaque, 32 oz

Mandatory Source of Supply: Alphapointe, Kansas City, MO

Contracting Activity: Military Resale-Defense Commissary Agency

Deletions

On 5/10/2019, the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Contract Cook Support & Dining Facility Attendant

Mandatory for: White Sands Missile Range, NM

Mandatory Source of Supply: Tresco, Inc., Las Cruces, NM

Contracting Activity: DEPT OF THE ARMY, W6QM MICC—WHITE SANDS

Service Type: Janitorial Services

Mandatory for: Norman Armed Force Reserve Center (AFRC), Norman, OK, Mustang Armed Force Reserve Center (AFRC), Mustang, OK

Mandatory Source of Supply: Dale Rogers Training Center, Inc., Oklahoma City, OK

Contracting Activity: DEPT OF THE ARMY, W7NV USPFO ACTIVITY OK ARNG

Service Type: Food Service Attendant

Mandatory for: Fort Custer Training Center, Augusta, MI

Mandatory Source of Supply: Calhoun County Community Mental Health Services, Battle Creek, MI

Contracting Activity: DEPT OF THE ARMY, W7NF USPFO ACTIVITY MI ARNG

Service Type: Packaging Service

Mandatory for: Crane Division, Naval Surface Warfare Center, Crane, IN

Mandatory Source of Supply: Knox County Association for Remarkable Citizens, Inc., Vincennes, IN

Contracting Activity: DEPT OF THE NAVY, U.S. FLEET FORCES COMMAND

Service Type: Electronic Image Conversion

Mandatory for: Federal Bureau of Investigation: 9th & Pennsylvania Avenue NW, Washington, DC

Mandatory Source of Supply: ServiceSource, Inc., Oakton, VA

Contracting Activity: FEDERAL BUREAU OF INVESTIGATION, DEPT OF JUST/FEDERAL BUREAU OF INVESTIGATION

Service Type: Mailroom Operation

Mandatory for: Defense Contract Management Agency, Barnes Building, Boston, MA

Mandatory Source of Supply: Community Workshops, Inc., Boston, MA

Contracting Activity: DEFENSE CONTRACT MANAGEMENT AGENCY (DCMA)

Service Type: Janitorial/Custodial

Mandatory for: Rattlesnake National Recreation Area: Maclay Flat and Fort Fizzle, Missoula Ranger District, Missoula, MT

Contracting Activity: AGRICULTURE, DEPARTMENT OF, PROCUREMENT OPERATIONS DIVISION

Service Type: Administrative Services

Mandatory for: HUD Birmingham Field Office, Birmingham, AL

Mandatory Source of Supply: Nobis Enterprises, Inc., Marietta, GA

Contracting Activity: HOUSING AND URBAN DEVELOPMENT, DEPARTMENT OF

Service Type: Janitorial/Custodial

Mandatory for: Social Security Administration, 190 Stone Street, Watertown, NY

Mandatory Source of Supply: Jefferson County Chapter, NYSARC, Watertown, NY

Mandatory for: Social Security Administration Building, 517 N. Barry Street, Olean, NY

Mandatory Source of Supply: Cattaraugus County Chapter, NYSARC, Olean, NY

Contracting Activity: PUBLIC BUILDINGS SERVICE, GSA PBS R2 ACQUISITION MANAGEMENT DIVISION

Service Type: Janitorial/Custodial

Mandatory for: Southeast Federal Center: M Street SE, Washington, DC

Mandatory Source of Supply: Davis Memorial Goodwill Industries, Washington, DC

Contracting Activity: PUBLIC BUILDINGS SERVICE, WPHBB—AGGREGATED REPAIR&ALTERATIONS CONTRACTS BRANCH

Service Type: Custodial service

Mandatory for: FEMA LA Recovery Office, Sherwood Forest Staging Area, 2695 Sherwood Forest, Baton Rouge, LA

Mandatory Source of Supply: Louisiana Industries for the Disabled, Inc., Baton Rouge, LA

Contracting Activity: FEDERAL EMERGENCY MANAGEMENT AGENCY, LOUISIANA CONTRACT OPS & MGMT BRANCH

Service Type: Custodial, Grounds Maintenance and Landscaping

Mandatory for: Cherokee National Forest-Tellico Ranger District, Tellico Plains, TN

Mandatory Source of Supply: Goodwill Industries—Knoxville, Inc., Knoxville, TN

Contracting Activity: AGRICULTURE, DEPARTMENT OF, AGRICULTURE, DEPARTMENT OF

Service Type: Disposal Support Services

Mandatory for: Gunter Air Force Base, AL

Mandatory Source of Supply: Goodwill Industries of Central Alabama, Inc., Montgomery, AL

Contracting Activity: DEFENSE LOGISTICS AGENCY, DLA SUPPORT SERVICES—DSS

Service Type: Custodial service

Mandatory for: Southside Locust Pt Baltimore MD—CBP, Baltimore, MD

Mandatory Source of Supply: The Arc Baltimore, Inc., Baltimore, MD

Contracting Activity: U.S. CUSTOMS AND BORDER PROTECTION, PROCUREMENT DIRECTORATE

Service Type: Janitorial/Custodial

Mandatory for: U.S. Army Reserve Center: Westover Air Reserve Base, Chicopee, MA

Mandatory Source of Supply: Allied Community Services, Inc., Enfield, CT

Contracting Activity: DEPT OF THE ARMY, W6QM MICC-FT DIX (RC-E)

Service Type: Janitorial Service

Mandatory for: Corpus Christi Resident Office, USACE (SAO), 1920 N. Chaparral St., Corpus Christi, TX

Mandatory Source of Supply: Training, Rehabilitation, & Development Institute, Inc., San Antonio, TX

Contracting Activity: DEPT OF THE ARMY, W076 ENDIST GALVESTON

Service Type: Grounds Maintenance

Mandatory for: U.S. Army Reserve Center: 443 Route 119 North, Indiana, PA

Contracting Activity: DEPT OF THE ARMY, W40M RHCO—ATLANTIC USAHCA

Patricia Briscoe,
Deputy Director, Business Operations (Pricing and Information Management).

[FR Doc. 2019-12614 Filed 6-13-19; 8:45 am]

BILLING CODE 6353-01-P